SECURITIES AND EXCHANGE COMMISSION

[OMB Control No. 3235-0064]

Proposed Collection; Comment Request; Extension: Exchange Act Form 10

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget (“OMB”) for extension and approval.

Form 10 (17 CFR 249.210) is used by issuers to register a class of securities pursuant to Section 12(b) or Section 12(g) (15 U.S.C. 78l(b) and 78l(g)) of the Securities Exchange Act of 1934. Form 10 requires financial information and other disclosures about matters such as the issuer's business, properties, identity and remuneration of management, outstanding securities, securities to be registered, and financial condition. The information collected on Form 10 is intended to ensure that investors in a class of Section 12-registered securities have sufficient information regarding such securities and their issuer necessary to make informed investment and voting decisions. We estimate that Form 10 takes approximately 198.84 hours per response to prepare and is filed by an average of 104 respondents annually, once per year, for an average of 104 responses annually. We estimate that 25% of the 198.84 hours per response (49.71 hours) are carried internally by the issuer for an annual reporting burden of 5,170 hours (49.71 hours per response × 104 responses). We further estimate that 75% of the 198.84 hours per response (149.13 hours) is carried by outside professionals at a rate of $600 per hour for a total annual cost burden of $9,305,712 (149.13 hours per response × $600 per hour × 104 responses).

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by September 22, 2025. There will be a second opportunity to comment on this SEC request following the Federal Register publishing a 30-Day Submission Notice.

Dated: July 17, 2025.
Sherry R. Haywood,
Assistant Secretary.

[FR Doc. 2025-13719 Filed 7-21-25; 8:45 am]

BILLING CODE 8011-01-P